DEPARTMENT OF HEALTH AND HUMAN SERVICES

Centers for Disease Control and Prevention

Disease, Disability, and Injury Prevention and Control; Special Emphasis Panels (SEP): Health Effects Associated With Environmental Exposures and Hazardous Waste, Academic Partners for Excellence in Environmental Public Health Tracking, Program Announcement (PA) #EH05-074, and Applied Research for Populations Around Hazardous Waste Sites, Program Announcement #TS05-110

In accordance with Section 10(a)(2) of the Federal Advisory Committee Act (Pub. L. 92-463), the Centers for Disease Control and Prevention (CDC) announces the following meeting:

Name: Disease, Disability, and Injury Prevention and Control Special Emphasis Panel (SEP): Health Effects Associated with Environmental Exposures and Hazardous Waste, Academic Partners for Excellence in Environmental Public Health Tracking, Program Announcement (PA) #EH05-074, and Applied Research for Populations Around Hazardous Waste Sites, Program Announcement #TS05-110.

Times and Dates: 8 a.m.-6 p.m., August 11, 2005(Closed).

Place: Renaissance Concourse Hotel, One Hartsfield Centre Parkway, Atlanta, GA 30354, Telephone Number 404.209.9999.

Status: The meeting will be closed to the public in accordance with provisions set forth in Section 552b(c) (4) and (6), Title 5 U.S.C., and the Determination of the Director, Management Analysis and Services Office, CDC, pursuant to Pub. L. 92-463.

Matters To Be Discussed: The meeting will include the review, discussion, and evaluation of applications received in response to: Health Effects Associated with Environmental Exposures and Hazardous Waste, Academic Partners for Excellence in Environmental Public Health Tracking, Program Announcement (PA) #EH05-074, and Applied Research for Populations Around Hazardous Waste Sites, Program Announcement #TS05-110.

For Further Information Contact: Bernadine B. Kuchinski, Ph.D., Occupational Health Consultant, National Institute for Occupational Safety and Health, CDC, 4676 Columbia Parkway, Mailstop C7, Cincinnati, OH 45226, Telephone 513.533.8511.

The Director, Management Analysis and Services Office, has been delegated the authority to sign Federal Register notices pertaining to announcements of meetings and other committee management activities, for both CDC and the Agency for Toxic Substances and Disease Registry.

Dated: June 23, 2005.
Alvin Hall,
Director, Management Analysis and Services Office, Centers for Disease Control and Prevention.

[FR Doc. 05-12809 Filed 6-28-05; 8:45 am]

BILLING CODE 4163-18-P